DEPARTMENT OF THE INTERIOR

National Park Service

36 CFR Part 73

[NPS-WASO-OIA-DTS-36537; PPWODIREI0-PIN00IO15.XI0000-234P104215]

RIN 1024-AE82

World Heritage Convention

AGENCY: National Park Service, Interior.

ACTION: Proposed rule.

SUMMARY: This proposed rule would revise regulations governing the National Park Service's coordination of U.S. participation in the Convention Concerning the Protection of the World Cultural and Natural Heritage. The proposed changes would reflect updates to the Operational Guidelines for the Implementation of the World Heritage Convention that have been made by the United Nations Educational, Scientific, and Cultural Organization Intergovernmental Committee for the Protection of the World Cultural and Natural Heritage since the regulations were first promulgated in 1982.

DATES: Comments on the proposed rule must be received by 11:59 p.m. ET on February 3, 2025.

ADDRESSES: You may submit comments, identified by Regulation Identifier Number (RIN) 1024-AE82, by either of the following methods:

• Federal eRulemaking Portal: https://www.regulations.gov. Follow the instructions for submitting comments.

• Mail or hand deliver to: Office of International Affairs, National Park Service, 1849 C Street NW, Room 2415, Washington, DC 20240. Comments delivered on external electronic storage devices (flash drives, compact discs, etc.) will not be accepted.

• Instructions: Comments will not be accepted by fax, email, or in any way other than those specified above. All submissions received must include the words “National Park Service” or “NPS” and must include the docket number or RIN (1024-AE82) for this rulemaking. Comments received will be posted without change to https://www.regulations.gov, including any personal information provided.

• Docket: For access to the docket to read background documents or comments received, go to https://www.regulations.gov and search for “1024-AE82.”

FOR FURTHER INFORMATION CONTACT: Jonathan Putnam, Office of International Affairs, National Park Service, (202) 354-1809, jonathan_putnam@nps.gov and international_affairs@nps.gov. Individuals in the United States who are deaf, deafblind, hard of hearing, or have a speech disability may dial 711 (TTY, TDD, or TeleBraille) to access telecommunications relay services. Individuals outside the United States should use the relay services offered within their country to make international calls to the point-of-contact in the United States. In compliance with the Providing Accountability Through Transparency Act of 2023, the plain language summary of the proposal is available on Regulations.gov in the docket for this rulemaking.

SUPPLEMENTARY INFORMATION:

Background

The Convention Concerning the Protection of the World Cultural and Natural Heritage (the Convention) was ratified by the U.S. Senate on October 26, 1973. The purpose of the Convention is to enhance worldwide understanding and appreciation of heritage conservation, and to recognize and preserve natural and cultural properties throughout the world that have outstanding universal value. The World Heritage List is an international list of cultural and natural properties judged to possess outstanding universal value. Properties are nominated by the signatories to the Convention. The United Nations Educational, Scientific, and Cultural Organization Intergovernmental Committee for the Protection of the World Cultural and Natural Heritage (the Committee) is the governing body of the Convention. The Committee is composed of elected representatives of 21 nations and is responsible for implementing the Convention at the international level. Countries represented on the Committee are elected by participating nations. The Committee establishes criteria which properties must satisfy for inclusion on the World Heritage List. At its annual meeting, the Committee decides which properties to accept on the World Heritage List. Currently, there are 1,199 properties on the World Heritage List that are located in 168 of the 195 signatory countries. Twenty-five sites on the World Heritage List are located in the United States, including several units of the National Park System (e.g., Mesa Verde National Park, Carlsbad Caverns National Park). Another property located in the United States has been nominated and is pending consideration by the Committee.

Title IV of the National Historic Preservation Act (NHPA) Amendments of 1980 (54 U.S.C. 307101) instructs the Department of the Interior (the Department) to direct and coordinate participation by the United States in the Convention. Regulations at 36 CFR part 73 implement the Convention pursuant to the 1980 NHPA Amendments. The Department, through the National Park Service (NPS), promulgated these regulations in 1982 (47 FR 23397) and made minor updates in 2001 (66 FR 57878). The regulations address (1) the U.S. World Heritage nomination process; (2) the criteria for inclusion on the World Heritage List and their application to nominated properties; (3) the role of the Federal Interagency Panel for World Heritage; (4) the protection of U.S. World Heritage properties; (5) International World Heritage activities; and (6) public information and education activities. The regulations also define key terms and explain the purpose and authority for the regulations and the role of the Assistant Secretary for Fish and Wildlife and Parks.

Since the NPS promulgated the regulations in 1982, the Committee has amended the Operational Guidelines for the Implementation of the World Heritage Convention (the Operational Guidelines) on numerous occasions, most recently in September 2023. The Operational Guidelines establish detailed procedures for (1) the inclusion of properties on the World Heritage List at the international level; (2) the protection and conservation of World Heritage properties; (3) the implementation of the World Heritage Fund; and (4) mobilization of support for the Convention.

Executive Summary

In this rulemaking, the NPS proposes to bring the regulations in part 73 in line with the Operational Guidelines and the current practice of program implementation by the NPS on behalf of the United States. The changes also would streamline certain procedural steps and provide clarity that would benefit the Department and the public. The proposed changes to each section of the existing regulations are explained below. In addition to the changes described below, the NPS would make non-substantive, editorial changes to the regulations to improve their readability. The NPS welcomes public comments on these changes and hopes to receive meaningful input as it considers a final rule.

Section 73.1 Purpose

Section 73.1 explains the purpose of the regulations. The NPS proposes to revise this section to remove references to the statutory authority for promulgating the regulations. The authority for promulgating the regulations is stated in section 73.5 (Authority).

Section 73.3 Definitions

Section 73.3 defines terms used in part 73. The NPS proposes to reorganize the defined terms in alphabetical order and add definitions for the following terms: “Advisory Bodies,” “NPS,” “Operational Guidelines,” “Preliminary Assessment,” “Secretary,” “Tentative List,” and “State Party.” The NPS proposes to shorten the definition of “Committee” to remove explanatory information that does not need to be in the definition and an outdated reference to six-year terms. Governments that have signed or become a party to the Convention now voluntarily limit their terms to four years. The NPS proposes to revise the definition of “Owner” to remove unnecessary language about nominations and refer to property interests rather than ownership to avoid a circular definition. The NPS proposes to further revise the definition to clarify that an owner means an individual, entity, government, or Indian Tribe that has a fee simple interest in all or part of a property, or in the case of an Indian Tribe a restricted fee interest, or a less than fee simple interest that is integral to the entire property's outstanding universal value. The revised definition would specifically refer to property interests held by an Indian Tribe or held in trust by the United States for the benefit of an Indian Tribe. Although there has never been a prohibition on nominating Tribal properties, and Tribal properties have been nominated in the past, these changes would clarify that Tribal properties may be nominated and that Indian Tribes will be considered the owners of those lands for purposes of the regulations regardless as to whether the properties are held in trust by the United States. This means that when a Tribal property is held in trust by the United States, the United States is not an owner of the property for purposes of these regulations and, as a result, the concurrence of the United States is not required for nominations. The NPS proposes to remove the definition of “Owner concurrence” and instead explain in the regulatory text that all property owners must concur in writing to nominations. The NPS proposes to remove the definitions of “Cultural Heritage” and “Natural Heritage” because they would be used only once in the revised regulations. Instead, the NPS would refer to the Articles of the Convention where they are defined.

Section 73.5 Authority

Section 73.5 identifies the statutory authority for the regulations. The NPS proposes to update the authority citation to reflect recodification of NPS statutory authorities from title 16 to title 54 of the U.S. Code.

Section 73.7 World Heritage Nomination Process

The regulations in this section set forth the procedures governing the nomination process. The NPS proposes to remove the question-and-answer format and make the following substantive revisions:

1. Be more specific about the role of the Federal Interagency Panel for World Heritage in various stages of the nomination process.

The NPS proposes to revise paragraphs (a)(4) and (5), (d)(3), and (f) to state that the NPS may consult with individual members of the Panel about matters in which they have expertise. Although the existing regulations do not prohibit consultation, these changes would emphasize its value as part of the Panel's role by stating clearly that consultation is allowed.

2. Revise the process for adding sites to the U.S. World Heritage Tentative List for consistency with the Operational Guidelines.

The NPS proposes to change the process for adding sites to the U.S. World Heritage Tentative List so that it is consistent with the Operational Guidelines. Existing regulations in paragraph (a)(2) state that the Assistant Secretary initiates the nomination process by publishing a “First Notice” requesting suggestions for candidate sites for the World Heritage List in the Federal Register. The Operational Guidelines do not require that the process for adding sites to the Tentative List be part of the process for authorizing and submitting nominations to the World Heritage List. These processes now operate on separate schedules. This rule would revise paragraph (a)(2) to refer only to the process for adding properties to the Tentative List, which would include consultation with the NPS and appropriate members of the Panel, and the publication of a notice in the Federal Register seeking public comment. In paragraphs (c) and (d), the rule would add information about the purpose and scope of the Tentative List and remove the obsolete term “Indicative Inventory.” In paragraph (c)(2), the rule would include a complete list of factors the Assistant Secretary may consider when deciding which properties to include on the Tentative List, including requirements that also apply to the nomination process and other requirements in the Operational Guidelines. Paragraph (c)(4) would state that the Department may update the Tentative List when warranted, but generally every ten years. Lastly, the NPS proposes to remove a requirement in the existing regulations that the Assistant Secretary publish the Tentative List in the Federal Register whenever a new nomination is considered. Instead, the proposed rule would require the NPS to publish the Tentative List in the Federal Register when it has been comprehensively updated by the Assistant Secretary. Publication of other changes would be at the discretion of the NPS.

3. Require a Preliminary Assessment for properties on the Tentative List prior to nomination.

In 2021, the Committee adopted a decision that will require the advisory bodies to the Committee—the International Union for Conservation of Nature, for sites of natural heritage, and the International Council on Monuments and Sites, for sites of cultural heritage—to provide a Preliminary Assessment to the requesting state party to the Convention about the potential of a site to have outstanding universal value before it can be nominated for the World Heritage List. Preliminary Assessments will be phased in starting with optional requests in 2023. Preliminary Assessments will be required for all nominations submitted after February 1, 2026. Consistent with this new requirement, the rule would revise paragraph (a)(3) to require the NPS, if required by the Operational Guidelines, to submit a request to the UNESCO World Heritage Centre for a Preliminary Assessment before recommending any property on the Tentative List for nomination. Revisions to paragraph (a)(4) would require the Assistant Secretary, prior to authorizing the preparation of a nomination, to receive a Preliminary Assessment, if that report is required by the Operational Guidelines. Paragraph (b)(4) would state that, in ordinary circumstances, the Preliminary Assessment should conclude that the property has potential to demonstrate outstanding universal value before the Assistant Secretary may consider it for nomination. The Assistant Secretary may consider a property for nomination even if the Preliminary Assessment concludes that the property does not have potential to meet this standard, but this should rarely or never happen.

4. Require verification of property ownership and appropriate legal protections for properties to be nominated.

The NPS proposes to revise paragraph (d)(3) to require verification of ownership and a review of legal protections before a property can be authorized for nomination. These steps are part of the process now but have typically occurred after nominations have been authorized and drafted. This change would ensure that any questions about ownership or legal protections would be identified before the nomination is authorized.

5. Supplement qualifications for national significance.

The 1980 NHPA Amendments (54 U.S.C. 307101) require properties in the United States to be of national significance before they can be nominated to the World Heritage List. The existing regulations identify several ways that a property may be considered nationally significant, including properties that the U.S. Congress has established as nationally significant and areas the President has proclaimed as a National Monument under the Antiquities Act of 1906 (16 U.S.C. 433). The NPS proposes to expand these qualifications to include any property established by a Federal agency as nationally significant under an authority provided by the United States Congress, and units of the National Park System, National Wildlife Refuges, National Marine Sanctuaries, and National Forests. Inclusion on the National Register of Historic Places or in a National Heritage Area, alone, would not qualify a property as nationally significant.

6. Simplify owner concurrence requirements.

The NPS proposes to consolidate paragraphs (b)(2)(i)-(iii) into one paragraph that includes existing requirements for all property owners to concur in writing to any nomination, and for owners of private property also to certify the protection of the property as required elsewhere in the regulations. This rule would remove references in section 73.7 and 73.13 to private parties controlling property, rather than owning it, regarding the need to obtain concurrence prior to nominations and to satisfy protection requirements. The 1980 NHPA Amendments do not mention non-Federal property being controlled, but not owned, for obtaining concurrence prior to nominations or other purposes.

7. Authorizing preparation of a U.S. World Heritage nomination.

As discussed previously, the NPS is proposing to separate the process for adding properties to the Tentative List from the process for nominating properties to the World Heritage List, consistent with current practice. Accordingly, certain provisions that appear in existing paragraph (i) about the approval and submission of nominations would be moved to new paragraph (c) in the revised regulations, which would be dedicated to the process for the Tentative List. These provisions include ownership verification and review of the property's legal protections. The provisions governing nominations to the World Heritage List would be moved and consolidated into new paragraphs (d)-(g), which would address authorizing the preparation of a nomination, preparing a nomination, evaluating a nomination, and approving and submitting a nomination, respectively. The provisions in paragraph (d) about authorizing the preparation of a nomination would incorporate the need to obtain and consider the content of a Preliminary Assessment before the NPS prepares a recommendation for the Assistant Secretary.

In addition, the NPS proposes to eliminate a requirement in paragraph (f)(1) of the existing regulations to publish notice in the Federal Register that a property owner has been authorized to prepare a nomination document, which is referred to as a “Second Notice.” An authorization to prepare a nomination document does not guarantee that the property will be approved for nomination and therefore is not substantive enough to require formal notification to the public. The revised regulations would direct the NPS to notify the property owners and the U.S. Congress that the Assistant Secretary has decided to authorize a nomination, and also when the Assistant Secretary has decided to submit a nomination to the World Heritage Committee. Existing regulations in paragraphs (f)(1) and (j) require the Assistant Secretary to provide notice, but this authority has been delegated to the NPS in practice. The rule would update the name of the applicable Committee in the U.S. House of Representatives from the “House Resources Committee” to the “House Natural Resources Committee.” The rule would no longer refer to the notice of submitted nominations as the “Third Notice.”

Section 73.9 World Heritage Criteria

The NPS proposes to revise this section to remove a recitation of the criteria used to assess whether a property has outstanding universal value. Instead, the rule would state that properties must meet at least one criterion that is published in the Operational Guidelines. The rule would state that the criteria are subject to revision by the Committee and refer to requirements in the Operational Guidelines about a property's integrity and authenticity, and legal protection and management. These proposed revisions would streamline the regulatory text and ensure that the criteria and other requirements that apply to U.S. properties are the same as stated in the Operational Guidelines at the time of assessment. These criteria are readily available on the website of the UNESCO World Heritage Centre which can be accessed directly or through a link on the website of the NPS Office of International Affairs. The criteria also are stated in brochures and other public information made available by the NPS.

Section 73.11 Federal Interagency Panel for World Heritage

This section of the regulations defines the responsibilities and composition of the Panel. The NPS proposes to change paragraph (a) to clarify that the Assistant Secretary may consult not only with the entire Panel, but also with individual members of the Panel on World Heritage matters. The NPS proposes to change paragraph (b)(1)(ii) to clarify that, in its role as a member of the Panel, the NPS represents Associate Directorships that are responsible for managing cultural and natural resources, which is separate from the NPS's administrative responsibilities stated elsewhere in the regulation. The NPS proposes to revise paragraph (b)(2) to clarify that additional representatives from other Federal agencies may have expertise in either natural or cultural heritage conservation.

Section 73.13 Protection of World Heritage Properties

This section of the regulations identifies in greater detail the protection measures that must be in place before the Assistant Secretary can nominate properties for inclusion on the World Heritage List. 54 U.S.C. 307101(c). The NPS proposes to revise paragraph (a)(1) to add language highlighting that the protection of World Heritage sites under the Convention is a government-wide obligation, to avoid an incorrect assumption that it is solely the responsibility of the Department. The NPS proposes to revise paragraph (c) to describe in more detail the protection measures required for private properties, including information about how the requirements may be satisfied. A statement at the end of paragraph (c) in the existing regulations, that protections are reviewed on a case-by-case basis, would become the first statement of the paragraph to make it clear that this approach governs the assessment. The rule would then provide examples of factors that the Assistant Secretary may consider when determining if protections are sufficient, such as the current and potential use of the property, the nature of its ownership, and the effectiveness of applicable legal instruments. The rule would move a statement describing the purpose of such legal instruments to the introductory language that appears before examples are given, to indicate that the statement applies to all of the examples. The stated purpose of such instruments is to sufficiently prohibit any use or physical alteration that is not consistent with, or which threatens or damages the property's universally significant value.

The existing regulations state that a written covenant or other trust or legal arrangement that prohibits in perpetuity any use that is not consistent with, or which threatens or damages the property's universally significant values, satisfy the protection requirements for private properties, provided there is an opinion of counsel on the legal status and enforcement of such a prohibition. Instead of identifying specific instruments that satisfy the protection requirements, the NPS proposes to provide examples of instruments that may satisfy the protection requirements. The rule would retain, as an example, a written covenant executed by the owner and continue to refer to other trusts or legal arrangements that may satisfy the protection requirements, with specific reference to easements and local historic preservation ordinances that include substantive protection for the property. Since the existing regulations were first promulgated in 1982, standards for local historic preservation ordinances have been established and widely adopted through the Certified Local Government Program authorized by the National Historic Preservation Act and implemented by the NPS. See 54 U.S.C. chapter 3025 and 36 CFR part 61. These ordinances may offer an effective means of long-term protection, subject to review by the Assistant Secretary that they offer sufficient protection for a property.

The NPS believes this approach is consistent with the 1980 NHPA Amendments that require legal protections as may be necessary to ensure preservation of the property and its environment. 54 U.S.C. 307101(c). The proposed rule would require the Assistant Secretary to determine, on a case-by-case basis, that the protections fulfill the mandate of the statute, giving consideration to what would constitute effective protection that is appropriate to the circumstances of the particular property. This approach is consistent with the intent of the 1980 Amendments and allows the Assistant Secretary to consider not just whether protections are in place, but also whether those protections are effective. The rule also would require private property owners to certify in writing to the protection measures for the property. The NPS believes that these revisions would provide the Assistant Secretary with more flexibility to determine that protections will “ensure preservation of the property and its environment” as required by the statute.

The NPS proposes to remove a requirement that there be an “opinion of counsel” about the status and enforcement of covenants. This provision is vague and unnecessary because the rule would require a determination by the Assistant Secretary that the protections are sufficient and comply with the standard for protection in the 1980 NHPA Amendments. Lastly, the NPS proposes to remove a reference to the property owner willingly providing a right of first refusal for the acquisition of private property because this has never been used in the program's 45-year history and therefore is unnecessary.

§ 73.17 Public Information and Education Activities

This section of the regulations addresses the development and distribution of information and materials regarding the U.S. World Heritage properties and the Convention in general. The NPS proposes one revision to paragraph (c) that would remove an obsolete and unnecessarily specific reference to the distribution of slideshows.

Compliance With Other Laws, Executive Orders and Department Policy

Regulatory Planning and Review (Executive Orders 12866 and 13563 and 14094)

Executive Order 12866, as amended by Executive Order 14094, provides that the Office of Information and Regulatory Affairs (OIRA) in the Office of Management and Budget will review all significant rules. OIRA has determined that the proposed rule is not significant.

Executive Order 14094 amends Executive Order 12866 and reaffirms the principles of Executive Order 12866 and Executive Order 13563 and states that regulatory analysis should facilitate agency efforts to develop regulations that serve the public interest, advance statutory objectives, and be consistent with Executive Order 12866, Executive Order 13563, and the Presidential Memorandum of January 20, 2021 (Modernizing Regulatory Review). Regulatory analysis, as practicable and appropriate, shall recognize distributive impacts and equity, to the extent permitted by law.

Executive Order 13563 reaffirms the principles of Executive Order 12866 while calling for improvements in the nation's regulatory system to promote predictability, to reduce uncertainty, and to use the best, most innovative, and least burdensome tools for achieving regulatory ends. Executive Order 13563 directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. The NPS has developed this proposed rule in a manner consistent with these requirements.

Regulatory Flexibility Act

The NPS certifies that this document will not have a significant economic effect on a substantial number of small entities under the Regulatory Flexibility Act (5 U.S.C. 601 et seq.). A Regulatory Flexibility Analysis is not required. This proposed rule would revise regulations governing the NPS's coordination of U.S. participation in the Convention. The costs and benefits of a regulatory action are measured with respect to its existing baseline conditions. No changes are anticipated compared to baseline conditions because this regulatory action is procedural in nature with the purpose of changing existing regulations to reflect updates to the Operational Guidelines and current administrative practice. All property owners must concur in writing to nominations, which means the application of this rule to private entities is completely voluntary. Nomination and approval of properties for inclusion on the World Heritage List recognizes their universally significant value and enhances public understanding and appreciation of heritage conservation. Only a small number of select U.S. properties will be considered for World Heritage status. Small entities may provide information or assistance in the preparation of nominations, but such participation is completely voluntary on their part. In some instances, small entities may be reimbursed for providing detailed site information and analysis. Designation of a property as a World Heritage site may enhance its tourism value. Any effects would likely be of a very localized nature and may be beneficial to small entities in the surrounding area. This action will not impose restrictions on local businesses in the form of fees, training, record keeping, or other measures that would increase costs.

Congressional Review Act

This rulemaking is not a major rule under 5 U.S.C. 804(2). This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act

This proposed rule does not impose an unfunded mandate on Tribal, State, or local governments or the private sector of more than $100 million per year. The proposed rule does not have a significant or unique effect on Tribal, State, or local governments or the private sector. It addresses public use of national park lands and imposes no requirements on other agencies or governments. A statement containing the information required by the Unfunded Mandates Reform Act (2 U.S.C. 1531 et seq.) is not required.

Takings (Executive Order 12630)

This proposed rule does not effect a taking of private property or otherwise have takings implications under Executive Order 12630. A takings implication assessment is not required.

Federalism (Executive Order 13132)

Under the criteria in section 1 of Executive Order 13132, the proposed rule does not have sufficient federalism implications to warrant the preparation of a Federalism summary impact statement. This proposed rule addresses procedures governing the NPS's administration of the U.S. World Heritage Program and would not have substantial direct effects on the States, on the relationships between the Federal Government and the States, or on the distribution of power and responsibilities among the various levels of government. A Federalism summary impact statement is not required.

Civil Justice Reform (Executive Order 12988)

This proposed rule complies with the requirements of Executive Order 12988. This proposed rule:

(a) Meets the criteria of section 3(a) requiring that all regulations be reviewed to eliminate errors and ambiguity and be written to minimize litigation; and

(b) Meets the criteria of section 3(b)(2) requiring that all regulations be written in clear language and contain clear legal standards.

Consultation With Indian Tribes and ANCSA Corporations (Executive Order 13175 and Department Policy)

The Department strives to strengthen its government-to-government relationship with Indian Tribes through a commitment to consultation with Indian Tribes and recognition of their right to self-governance and Tribal sovereignty. The NPS has evaluated this proposed rule under the criteria in Executive Order 13175 and under the Department's Tribal consultation policy and has determined that Tribal consultation is not required because the proposed rule would not have a substantial direct effect on federally recognized Indian Tribes.

Paperwork Reduction Act

This proposed rule does not contain information collection requirements, and a submission to the Office of Management and Budget under the Paperwork Reduction Act is not required. The NPS may not conduct or sponsor and you are not required to respond to a collection of information unless it displays a currently valid OMB control number.

National Environmental Policy Act

This rule does not constitute a major federal action significantly affecting the quality of the human environment. A detailed statement under NEPA is not required because the rule is covered by a categorical exclusion. NPS NEPA Handbook (2015) Section 3.2.H allows for the following to be categorically excluded: “policies, directives, regulations, and guidelines that are of an administrative, financial, legal, technical, or procedural nature.” This proposed rule addresses procedures governing the NPS's administration of the U.S. World Heritage Program. The NPS has also determined that the rule does not involve any of the extraordinary circumstances listed in 43 CFR 46.215 that would require further analysis under NEPA.

Effects on the Energy Supply (Executive Order 13211)

This proposed rule is not a significant energy action under the definition in Executive Order 13211; the proposed rule is not likely to have a significant adverse effect on the supply, distribution, or use of energy, and the proposed rule has not otherwise been designated by the Administrator of Office of Information and Regulatory Affairs as a significant energy action. A Statement of Energy Effects is not required.

Clarity of This Rule

The NPS is required by Executive Orders 12866 (section 1(b)(12)) and 12988 (section 3(b)(1)(B)), and 13563 (section 1(a)), and by the Presidential Memorandum of June 1, 1998, to write all rules in plain language. This means that each rule the NPS publishes must:

(a) Be logically organized;

(b) Use the active voice to address readers directly;

(c) Use common, everyday words and clear language rather than jargon;

(d) Be divided into short sections and sentences; and

(e) Use lists and tables wherever possible.

If you feel that the NPS has not met these requirements, send the NPS comments by one of the methods listed in the ADDRESSES section. To better help the NPS revise the rule, your comments should be as specific as possible. For example, you should identify the numbers of the sections or paragraphs that you find unclear, which sections or sentences are too long, the sections where you feel lists or tables would be useful, etc.

Public Participation

It is the policy of the Department, whenever practicable, to afford the public an opportunity to participate in the rulemaking process. Accordingly, interested persons may submit written comments regarding this proposed rule by one of the methods listed in the ADDRESSES section of this document.

Public Availability of Comments

Before including your address, phone number, email address, or other personal identifying information in your comment, you should be aware that your entire comment—including your personal identifying information—may be made publicly available at any time. While you can ask the NPS in your comment to withhold your personal identifying information from public review, the NPS cannot guarantee that it will be able to do so.

List of Subjects in 36 CFR Part 73

Foreign relations, Historic preservation.

In consideration of the foregoing, the National Park Service proposes to amend 36 CFR part 73 as set forth below:

PART 73—WORLD HERITAGE CONVENTION

1. Revise the authority citation for part 73 to read as follows:

Authority: 54 U.S.C. 307101.

2. Revise § 73.1 to read as follows:

§ 73.1 Purpose.

The purpose of this part is to set forth the procedures that the Department of the Interior, through the National Park Service, uses to direct and coordinate participation by the United States in the Convention Concerning the Protection of the World Cultural and Natural Heritage. The purpose of the Convention is to enhance worldwide understanding and appreciation of heritage conservation, and to recognize and preserve natural and cultural properties throughout the world that have outstanding universal value to mankind.

3. Revise § 73.3 to read as follows:

§ 73.3 Definitions.

Advisory Bodies means nongovernmental organizations that are given the responsibility in the Convention for advising the Committee on technical matters relating to natural and cultural heritage. The International Union for Conservation of Nature, or IUCN, advises on natural heritage, and the International Council on Monuments and Sites, or ICOMOS, advises on cultural heritage.

Assistant Secretary means the Assistant Secretary for Fish and Wildlife and Parks, U.S. Department of the Interior, or a designee authorized to carry out the Assistant Secretary's responsibilities.

Committee means the United Nations Educational, Scientific, and Cultural Organization Intergovernmental Committee for the Protection of the World Cultural and Natural Heritage established by Article 8 of the Convention and assisted by UNESCO.

Convention means the Convention Concerning the Protection of the World Cultural and Natural Heritage.

Department means the U.S. Department of the Interior.

NPS means the office of the National Park Service assigned responsibility for the administration of the U.S. World Heritage Program.

Operational Guidelines means the Operational Guidelines for the Implementation of the World Heritage Convention adopted and periodically updated by the Committee that establish the criteria which properties must satisfy for inclusion on the World Heritage List and policy and procedures for the administration of the Convention.

Owner means an individual, entity, government, or Indian Tribe that has a fee simple interest in all or part of a property, or in the case of an Indian Tribe a restricted fee interest, or a less than fee simple interest that is integral to the entire property's outstanding universal value. For property interests held by a Federal, State, or local government, the owner is deemed to be the head of the agency responsible for administering the property, or a designee to whom such authority has been delegated. For property interests held by an Indian Tribe in fee simple or restricted fee, or held in trust by the United States for the benefit of an Indian Tribe, the owner is deemed to be the leader of the Indian Tribe or a designee to whom such authority has been delegated.

Panel means an interagency panel consisting of representatives from the Office of the Assistant Secretary, the National Park Service, and the U.S. Fish and Wildlife Service, within the Department; the President's Council on Environmental Quality; the Smithsonian Institution; the Advisory Council on Historic Preservation; the National Oceanic and Atmospheric Administration within the Department of Commerce; and the Department of State.

Preliminary Assessment means a report prepared by one or more of the Advisory Bodies that advises a State Party on the potential of a property to have outstanding universal value.

Secretary means the Secretary of the Department, or a designee authorized to carry out the Secretary's responsibilities.

State Party means a national government that has signed, or become a party to, the Convention.

Tentative List means the list required by the Committee and maintained by the Department, of properties within the territory of the United States from which the United States may submit nominations to the World Heritage List.

UNESCO means the United Nations Educational, Scientific and Cultural Organization, which provides staff support for the Convention and its implementation.

World Heritage List means the list established by Article 11 of the Convention that includes those cultural and natural properties judged to possess outstanding universal value.

4. Revise § 73.5 to read as follows:

§ 73.5 Authority.

The provisions contained in this part are based on the authority of the Secretary under title IV of the National Historic Preservation Act Amendments of 1980 (54 U.S.C. 307101) to direct and coordinate U.S. participation in the Convention, in cooperation with the Secretary of State, the Smithsonian Institution, and the Advisory Council on Historic Preservation.

5. Revise § 73.7 to read as follows:

§ 73.7 World Heritage nomination process.

(a) Overview. (1) The Assistant Secretary is the designated official who conducts the U.S. World Heritage Program and periodically nominates properties to the World Heritage List on behalf of the United States. The NPS provides staff support to the Assistant Secretary.

(2) The Assistant Secretary periodically revises or adds properties to the Tentative List through a process that includes the advice of the NPS and members of the Panel with relevant expertise, as well as public input obtained by publishing a request for suggested additions in the Federal Register.

(3) The NPS identifies properties on the Tentative List that appear to be ready for the preparation of a nomination proposal or for which additional advice from one or more of the Advisory Bodies is desired. For such properties, if required by the Operational Guidelines, the NPS submits a request for a Preliminary Assessment to the UNESCO World Heritage Centre, following the procedures in the Operational Guidelines.

(4) The Assistant Secretary, with advice from the NPS and members of the Panel with relevant expertise, may authorize the preparation of a nomination of a property on the Tentative List after receiving a Preliminary Assessment, if required by the Operational Guidelines.

(5) The property owner (or owners), in cooperation with the NPS, voluntarily prepares a detailed draft nomination document for the property that has been proposed for nomination. The NPS reviews the accuracy and completeness of draft nomination documents, with the advice of members of the Panel with relevant expertise, and makes a recommendation on the nomination to the Assistant Secretary.

(6) The Assistant Secretary, after convening the Panel, decides whether to nominate the property and transmits approved nominations, through the Department of State, to the Committee to be considered for inclusion on the World Heritage List.

(b) Requirements. A property must satisfy the following requirements before the Assistant Secretary may consider it for nomination:

(1) The property must be nationally significant. For the purposes of this section, a property qualifies as “nationally significant” if it is:

(i) Designated by the Secretary as a National Historic Landmark (36 CFR part 65) or a National Natural Landmark (36 CFR part 62) under provisions of the 1935 Historic Sites Act (54 U.S.C. chapter 3201);

(ii) Established by Congressional action, or by a Federal agency under an authority provided by the United States Congress, as nationally significant; or

(iii) Proclaimed by the President of the United States as a National Monument under the Antiquities Act of 1906 (54 U.S.C. chapter 3203).

(iv) Established as a National Wildlife Refuge, National Marine Sanctuary, National Forest, of a unit of the National Park System.

(2) Except as stated below, all owners must concur in writing. Owners of private property also must certify in writing to the protection measures described in paragraph (c) of § 73.13 of this part.

(3) The nomination document must include evidence of protection measures that are necessary to ensure the preservation of the property and its environment, as described in § 73.13 of this part.

(4) In ordinary circumstances, the Preliminary Assessment should conclude that the property has potential to demonstrate outstanding universal value.

(c) Tentative List. (1) Article 11 of the Convention requests each State Party to submit a list of candidate sites for the World Heritage List. The NPS compiles and maintains the Tentative List for properties within the territory of the United States. A property must be on the Tentative List for at least one year to be eligible for a Preliminary Assessment and potential nomination for inclusion on the World Heritage List.

(2) The Assistant Secretary, with advice from the NPS and members of the Panel with relevant expertise, may revise or add properties to the Tentative List. Before adding a property to the Tentative List, the Assistant Secretary will consider:

(i) Whether the property appears to satisfy one or more of the criteria for inclusion on the World Heritage List, as described in the Operational Guidelines;

(ii) Whether it demonstrates a very high degree of integrity and (for cultural properties) authenticity as required by the Operational Guidelines;

(iii) Whether the property meets the requirements in paragraphs (b)(1) and (3) of this section;

(iv) How well the particular type of property is represented on the World Heritage List, both globally and in the United States. Such representation includes both geographic and thematic considerations;

(v) The balance between cultural and natural properties already on the World Heritage List, both globally and in the United States;

(vi) Opportunities that the property affords for public visitation, interpretation, and education;

(vii) Potential threats to the property's integrity or its current state of preservation; and

(viii) Other relevant factors, including public interest and awareness of the property, and the potential for the owner(s) to effectively fund and prepare a draft nomination document.

(3) The Tentative List is not intended to be comprehensive of all types of nationally significant cultural and natural properties in the United States, but rather to focus on those that are significant in a global context.

(4) The Assistant Secretary may undertake a comprehensive update to the Tentative List when warranted, but generally every ten (10) years. When this occurs, the NPS will publish notice in the Federal Register that requests suggested additions from the public. The NPS will publish the new Tentative List in the Federal Register after the Assistant Secretary completes a comprehensive update. The NPS may publish notice in the Federal Register of other changes made by the Assistant Secretary at its discretion. The Assistant Secretary transmits information to the UNESCO World Heritage Centre about changes to the Tentative List as specified in the Operational Guidelines. At any time, a government agency, private organization, or individual may suggest additions to the Tentative List by contacting the NPS, preferably with accompanying documentation.

(d) Authorizing preparation of a U.S. World Heritage nomination. The following steps must be taken to authorize the preparation of draft nomination documents:

(1) The NPS identifies a property on the Tentative List that appears to be ready to prepare a nomination or for which the NPS desires additional advice from one or more of the Advisory Bodies. The Operational Guidelines request that countries whose heritage is already well represented on the World Heritage List voluntarily limit their nominations through actions such as refraining from annual nominations, proposing only properties in categories that are under-represented on the World Heritage List, and linking a nomination with one presented by a country whose heritage is under-represented. The NPS will consider this guidance in the identification process.

(2) If a Preliminary Assessment is required by the Operational Guidelines, the NPS submits a request for such report to the UNESCO World Heritage Centre, following the procedures in the Operational Guidelines.

(3) Upon receipt of a Preliminary Assessment, if required by the Operational Guidelines, the NPS prepares a recommendation for the Assistant Secretary as to whether the Assistant Secretary should authorize the owners to prepare a draft nomination document. The NPS will consider the content of the Preliminary Assessment and may consult with members of the Panel with relevant expertise. This recommendation also will include determination or verification of ownership of the property proposed for nomination, and a review of legal protections for the property.

(4) The Assistant Secretary, with advice from the NPS and members of the Panel with relevant expertise, may authorize the preparation of a nomination of a property on the Tentative List after receiving a Preliminary Assessment, if required by the Operational Guidelines, and a recommendation from the NPS. If the Assistant Secretary decides to authorize a nomination, the NPS will notify in writing the owner or owners of the property, the House Natural Resources Committee, and the Senate Energy and Natural Resources Committee. The NPS also may issue a press release about the proposed nomination.

(e) Preparation of a U.S. World Heritage nomination. The owner or owners of a property are responsible for preparing a draft nomination document. The preparation of a draft nomination document is completely voluntary. The NPS oversees the preparation of the draft nomination document and ensures that it follows the procedures in this part and the format and procedures in the Operational Guidelines.

(f) Evaluation of a U.S. World Heritage nomination. The draft nomination document serves as the basis for the Assistant Secretary's decision to nominate a property to the World Heritage Committee for inclusion on the World Heritage List. The NPS reviews the accuracy and completeness of draft nomination documents, with the advice of members of the Panel with relevant expertise, and makes a recommendation on the nomination to the Assistant Secretary.

(g) Approval and submission of a U.S. World Heritage nomination. (1) The Assistant Secretary, on behalf of the United States and based on personal evaluation of the draft nomination document and after convening the Panel, may nominate a property for inclusion on the World Heritage List if all of the requirements in paragraph (b) of this section are met.

(2) The Assistant Secretary will send an approved nomination document, through the Department of State, to the Committee so that it is received before the deadline established in the Operational Guidelines for any given year; however, if the United States is cooperating with one or more other countries to nominate thematically or geographically linked properties in a single nomination, and the United States is not the country presenting the nomination, the Assistant Secretary will not submit the nomination to the Committee but will provide documentation of the U.S. government's cooperation in the nomination as required by the Operational Guidelines.

(3) Upon a decision by the Assistant Secretary to submit a nomination, the NPS will notify in writing the owner or owners of the property, the House Natural Resources Committee, and the Senate Energy and Natural Resources Committee. The NPS also will publish notice of the nomination in the Federal Register and the NPS will issue a press release.

(4) Nomination by the United States does not place a property on the World Heritage List. Before a nominated property can be included on the World Heritage List it must be considered and approved by the Committee. This usually occurs at a Committee meeting in the year following the receipt of the nomination.

6. Revise § 73.9 to read as follows:

§ 73.9 World Heritage criteria.

(a) The Operational Guidelines identify cultural and natural criteria for the World Heritage List. Properties must meet at least one criterion, and can meet both cultural and natural criteria, in which case the property is considered “mixed” heritage. The criteria are subject to revision by the Committee. The Operational Guidelines also detail requirements for integrity and authenticity, as well as for legal protection and management to ensure the conservation of the property (see § 73.13).

(b) [Reserved]

(c) [Reserved]

7. Amend § 73.11 by revising paragraph (a) introductory text, paragraph (b)(1)(ii), and paragraphs (b)(2) and (3).

The revisions read as follows:

§ 73.11 Federal Interagency Panel for World Heritage.

(a) Responsibilities. The Panel is established to advise the Assistant Secretary on implementation of the Convention. Among other things, the Panel or any of its members assist in the following activities:

* * * * *

(b) * * *

(1) * * *

(ii) The NPS, representing the Associate Directorships that are responsible for cultural and/or natural resources.

* * * * *

(2) Additional representatives from other Federal agencies with mandates and expertise in the conservation of cultural or natural heritage, as those terms are defined in Articles 1 and 2 of the Convention, may be requested to participate in the Panel from time to time.

(3) The Assistant Secretary chairs meetings of the Panel, and sets its agenda and schedule. The NPS provides staff support to the Panel.

8. Amend § 73.13 by:

a. Revising paragraphs (a) and (c); and

b. Removing the undesignated paragraph at the end of the section.

The revisions read as follows:

§ 73.13 Protection of U.S. World Heritage properties.

(a) Requirements. (1) Article 5 of the Convention, as required in more detail in the Operational Guidelines, mandates that each participating nation shall take, insofar as possible, the appropriate legal, scientific, technical, administrative, and financial measures necessary for the identification, protection, conservation, preservation, and rehabilitation of properties of outstanding universal value. This is a government-wide obligation.

(2) The nomination document for a property must include evidence of such legal protections as may be necessary to ensure preservation of the property and its environment, including, for example, restrictive covenants, easements, or other forms of protection (54 U.S.C. 307101(c)).

* * * * *

(c) Protection Measures for Private Properties. For properties owned by private organizations or individuals, the protection measures for each property being considered for possible nomination to the World Heritage List will be reviewed by the Assistant Secretary on a case-by-case basis to ensure that they fulfill the mandate of 54 U.S.C. 307101(c), giving consideration to what would constitute effective protection that is appropriate to the circumstances of the particular property. Such considerations may include the current and potential use of the property, the nature of its ownership, and the effectiveness of the applicable legal protection measures.

(1) One or more of the following items may satisfy the protection requirements outlined in paragraph (a) of this section, if the Assistant Secretary determines that they sufficiently prohibit any use or physical alteration that is not consistent with, or which threatens or damages the property's universally significant value:

(i) Written covenant executed by the owner(s); or

(ii) Other trust or legal arrangement, such as an easement or substantive protection under a local historic preservation ordinance.

(2) [Reserved]

§ 73.17 [Amended]

9. Amend § 73.17, in paragraph (c), by removing the text “slideshows,”.

Shannon A. Estenoz,
Assistant Secretary for Fish and Wildlife and Parks.

[FR Doc. 2024-27373 Filed 12-3-24; 8:45 am]

BILLING CODE 4312-52-P